DEPARTMENT OF VETERANS AFFAIRS

Privacy Act of 1974; System of Records

AGENCY: Department of Veterans Affairs (VA), National Cemetery Administration (NCA).

ACTION: Notice of a modified system of records.

SUMMARY: Pursuant to the Privacy Act of 1974, notice is hereby given that the VA is modifying the system of records in its inventory titled, “Veterans (Deceased) Headstone or Marker Records—VA” (48VA40B). The records in this system relate to deceased veterans and their eligible family members and consist primarily of Military Service Data, place of burial, and data on headstone or marker.

DATES: Comments on this modified system of records must be received no later than 30 days after date of publication in the Federal Register. If no public comment is received during the period allowed for comment or unless otherwise published in the Federal Register by VA, the modified system of records will become effective a minimum of 30 days after date of publication in the Federal Register. If VA receives public comments, VA shall review the comments to determine whether any changes to the notice are necessary.

ADDRESSES: Comments may be submitted through www.Regulations.gov or mailed to VA Privacy Service, 810 Vermont Avenue NW, (005X6F), Washington, DC 20420. Comments should indicate that they are submitted in response to “Veterans (Deceased) Headstone or Marker Records—VA” (48VA40B). Comments received will be available at regulations.gov for public viewing, inspection, or copies.

FOR FURTHER INFORMATION CONTACT: Cindy Merritt, National Cemetery Administration (NCA) Privacy Officer (43E), Department of Veterans Affairs, 810 Vermont Avenue NW, Washington, DC 20420, Cindy.Merritt@va.gov, telephone (321) 200-7477 (this is not a toll-free number).

SUPPLEMENTARY INFORMATION: VA is amending the system of records by revising the Purpose, Routine Uses of Records Maintained in the System, Policies and Practices for Retention and Disposal of Records, Record Access Procedures, Contesting Record Procedures, and Notification Procedures. VA is republishing the system notice in its entirety.

Routine Use of Records Maintained in the System is being amended to reflect the Departmental requirement of seven additional routine uses that further clarify appropriate and necessary disclosures: Funeral Homes, for Arrangements; Federal Agencies, for Research; Federal Agencies, for Computer Matches; Federal Agencies, Courts, Litigants, for Litigation or Administrative Proceedings; Former Employee or Contractor, Representative, for Equal Employment Opportunity Commission (EEOC); Former Employee or Contractor, Representative, for Merit Systems Protection Board (MSPB), Office of Special Counsel (OSC); Governmental Agencies, Health Organizations, for Claimants' Benefits.

The Purpose is being amended and will now reflect the following language: “This system is used to facilitate the administration of statutory benefit programs that relate to deceased veterans and family members who are eligible for a variety of Federal benefits administered by VA at VA facilities; at national, state, tribal, and private cemeteries located throughout the country; as well as worldwide. The records consist primarily of Military Service Data, place of burial, and data on headstone or marker.”

The Policies and Practices for Retention and Disposal of Records section is being amended to include a reference to the applicable records control schedule.

The Record Access Procedures and Contesting Record Procedures sections are being amended to refer the reader to the system manager instead of a specific address.

Notification Procedures is being amended to remove the prior language and include “Generalized notice is provided by the publication of this notice. For specific notice, see Record Access Procedure above.”

The Report of Intent to Amend a System of Records Notice and an advance copy of the system notice have been sent to the appropriate Congressional committees and to the Director of the Office of Management and Budget (OMB) as required by 5 U.S.C. 552a(r) (Privacy Act) and guidelines issued by OMB (65 FR 77677), December 12, 2000.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on March 29, 2023 for publication.

Dated: May 4, 2023.
Amy L. Rose,
Program Analyst, VA Privacy Service, Office of Information Security, Office of Information and Technology, Department of Veterans Affairs.

SYSTEM NAME AND NUMBER:

Veterans (Deceased) Headstone or Marker.

Records-VA (48VA40B).

SECURITY CLASSIFICATION:

Unclassified.

SYSTEM LOCATION:

Records are maintained at the National Cemetery Administration (41B), VA Central Office, 810 Vermont Avenue NW, Washington, DC 20420.

SYSTEM MANAGER(S):

Artis Parker, Executive Director of Field Programs (41B), National Cemetery Scheduling Office, 4850 Lemay Ferry Road, Suite 205, St. Louis, MO 63129, Artis.Parker@va.gov, telephone (314) 416-6304.

AUTHORITY FOR MAINTENANCE OF THE SYSTEM:

38 U.S.C. 2404.

PURPOSE(S) OF THE SYSTEM:

This system is used to facilitate the administration of statutory benefit programs that relate to deceased veterans and family members who are eligible for a variety of Federal benefits administered by VA at VA facilities; at national, state, tribal, and private cemeteries located throughout the country; as well as worldwide. The records consist primarily of Military Service Data, place of burial, and data on headstone or marker.

CATEGORIES OF INDIVIDUALS COVERED BY THE SYSTEM:

Deceased Veterans and eligible family members.

CATEGORIES OF RECORDS IN THE SYSTEM:

The records in the system are the primary records and may contain the following types of information:

1. Military Service Data.

2. Applicant's name and address.

3. Place of burial.

4. Data on headstone or marker.

5. Consignee's name, address, and phone number.

RECORD SOURCE CATEGORIES:

Record sources include family members of the deceased, official military records and VA claims records.

ROUTINE USES OF RECORDS MAINTAINED IN THE SYSTEM, INCLUDING CATEGORIES OF USERS AND PURPOSES OF SUCH USES:

1. Congress: To a Member of Congress or staff acting upon the Member's behalf when the Member or staff requests the information on behalf of, and at the request of, the individual who is the subject of the record.

2. Data Breach Response and Remediation, for VA: To appropriate agencies, entities, and persons when (1) VA suspects or has confirmed that there has been a breach of the system of records; (2) VA has determined that as a result of the suspected or confirmed breach there is a risk of harm to individuals, VA (including its information systems, programs, and operations), the Federal Government, or national security; and (3) the disclosure made to such agencies, entities, and persons is reasonably necessary to assist in connection with VA's efforts to respond to the suspected or confirmed breach or to prevent, minimize, or remedy such harm.

3. Data Breach Response and Remediation, for Another Federal Agency: To another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

4. Law Enforcement: To a Federal, state, local, territorial, tribal, or foreign law enforcement authority or other appropriate entity charged with the responsibility of investigating or prosecuting such violation or charged with enforcing or implementing such law, provided that the disclosure is limited to information that, either alone or in conjunction with other information, indicates a violation or potential violation of law, whether civil, criminal, or regulatory in nature. The disclosure of the names and addresses of veterans and their dependents from VA records under this routine use must also comply with the provisions of 38 U.S.C. 5701.

5. Department of Justice (DoJ) for Litigation or Administrative Proceeding: To the DoJ, or in a proceeding before a court, adjudicative body, or other administrative body before which VA is authorized to appear, when:

(a) VA or any component thereof;

(b) Any VA employee in his or her official capacity;

(c) Any VA employee in his or her individual capacity where DoJ has agreed to represent the employee; or

(d) The United States, where VA determines that litigation is likely to affect the agency or any of its components, is a party to such proceedings or has an interest in such proceedings, and VA determines that use of such records is relevant and necessary to the proceedings.

6. Contractors: To contractors, grantees, experts, consultants, students, and others performing or working on a contract, service, grant, cooperative agreement, or other assignment for VA, when reasonably necessary to accomplish an agency function related to the records.

7. Office of Personnel Management (OPM): To the OPM in connection with the application or effect of civil service laws, rules, regulations, or OPM guidelines in particular situations.

8. EEOC: To the EEOC in connection with investigations of alleged or possible discriminatory practices, examination of Federal affirmative employment programs, or other functions of the Commission as authorized by law.

9. Federal Labor Relations Authority (FLRA): To the FLRA in connection with the investigation and resolution of allegations of unfair labor practices, the resolution of exceptions to arbitration awards when a question of material fact is raised, matters before the Federal Service Impasses Panel, and the investigation of representation petitions and the conduct or supervision of representation elections.

10. MSPB: To the MSPB in connection with appeals, special studies of the civil service and other merit systems, review of rules and regulations, investigation of alleged or possible prohibited personnel practices, and such other functions promulgated in 5 U.S.C. 1205 and 1206, or as authorized by law.

11. National Archives and Records Administration (NARA): To the NARA in records management inspections conducted under 44 U.S.C. 2904 and 2906, or other functions authorized by laws and policies governing NARA operations and VA records management responsibilities.

12. Funeral Homes, for Arrangements: To funeral directors or representatives of funeral homes in order for them to make necessary arrangements prior to and in anticipation of a veteran's impending death.

13. Federal Agencies, for Research: To a Federal agency for the purpose of conducting research and data analysis to perform a statutory purpose of that Federal agency upon the written request of that agency.

14. Federal Agencies, for Computer Matches: To other federal agencies for the purpose of conducting computer matches to obtain information to determine or verify eligibility of veterans receiving VA benefits or medical care under title 38.

15. Federal Agencies, Courts, Litigants, for Litigation or Administrative Proceedings: To another federal agency, court, or party in litigation before a court or in an administrative proceeding conducted by a Federal agency, when the government is a party to the judicial or administrative proceeding.

16. Former Employee or Contractor, Representative, for EEOC: To a former VA employee or contractor, as well as the authorized representative of a current or former employee or contractor of VA, in connection with investigations by the EEOC pertaining to alleged or possible discrimination practices, examinations of Federal affirmative employment programs, or other functions of the Commission as authorized by law or regulation.

17. Former Employee or Contractor, Representative, for MSPB, OSC: To a former VA employee or contractor, as well as the authorized representative of a current or former employee or contractor of VA, in proceedings before the MSPB or OSC in connection with appeals, special studies of the civil service and other merit systems, review of rules and regulations, investigation of alleged or possible prohibited personnel practices, and such other functions promulgated in 5 U.S.C. 1205 and 1206, or as otherwise authorized by law.

18. Governmental Agencies, Health Organizations, for Claimants' Benefits: VA To Federal, state, and local government agencies and national health organizations as reasonably necessary to assist in the development of programs that will be beneficial to claimants, to protect their rights under law, and assure that they are receiving all benefits to which they are entitled.

POLICIES AND PRACTICES FOR STORAGE OF RECORDS:

Records are maintained on paper and are stored at VA Central Office.

POLICIES AND PRACTICES FOR RETRIEVAL OF RECORDS:

Records are retrievable by name of VA beneficiary or eligible family member.

POLICIES AND PRACTICES FOR RETENTION AND DISPOSAL OF RECORDS:

Records in this system are retained permanently in accordance with the schedule approved by the Archivist of the United States, NCA Records Control Schedule, NC1-15-85-9 item 21g(1)(a).

ADMINISTRATIVE, TECHNICAL, AND PHYSICAL SAFEGUARDS:

NCA will maintain the data in compliance with applicable VA security policy Directives that specify the standards that will be applied to protect sensitive personal information. Further, only authorized individuals may have access to the data and only when needed to perform their duties. They are required to take annual VA mandatory data privacy and security training.

RECORD ACCESS PROCEDURES:

Individuals seeking information on the existence and content of records in this system pertaining to them should contact the system manager in writing as indicated above. A request for access to records must contain the requester's full name, address, telephone number, be signed by the requester, and describe the records sought in sufficient detail to enable VA personnel to locate them with a reasonable amount of effort.

CONTESTING RECORD PROCEDURES:

Individuals seeking to contest or amend records in this system pertaining to them should contact the system manager in writing as indicated above. A request to contest or amend records must state clearly and concisely what record is being contested, the reasons for contesting it, and the proposed amendment to the record.

NOTIFICATION PROCEDURES:

Generalized notice is provided by the publication of this notice. For specific notice, see Record Access Procedure above.

EXEMPTIONS PROMULGATED FOR THE SYSTEM:

None.

HISTORY:

75 FR 65063 (October 21, 2010).

[FR Doc. 2023-09838 Filed 5-8-23; 8:45 am]

BILLING CODE 8320-01-P